DEPARTMENT OF HEALTH AND HUMAN SERVICES

Centers for Disease Control and Prevention

[30 Day-09-09CC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

CDC American Recovery and Reinvestment Act of 2009 (ARRA) Performance Progress Report—New—Office of the Chief Operating Officer (OCOO), Centers for Disease Control and Prevention (CDC).

Background and Brief Description

The American Recovery and Reinvestment Act of 2009 was signed into law on February 17, 2009, Public Law 111-5 (“Recovery Act”). The purpose of this proposed data collection is to collect quarterly performance information for all CDC grants and cooperative agreements funded under the Recovery Act. This will allow CDC to receive reports on recipient performance measures as set forth in the applicable Funding Opportunity Announcement (FOA) and Notice of Grant Award. This requirement is in addition to the reporting requirements of Section 1512 of the Recovery Act, set forth by the Office of Management and Budget (OMB) under the data collection instrument titled “Standard Data Elements for Reports under Section 1512 of the American Recovery and Reinvestment Act of 2009, Public Law 111-5 (Grants, Cooperative Agreements and Loans).”

The form CDC proposes to use is a modified Performance Progress Report (SF-PPR) which was successfully piloted by the Administration for Children and Families (ACF). CDC intends to use this modified form for quarterly standard reporting of performance measures set forth in the applicable FOA and Notice of Grant Award for all CDC Recovery Act funded grants and cooperative agreements. In addition to allowing for uniformity of information collection, this format will support systematic electronic collection and submission of information. The form contains non-personal identifying data elements and a section for a performance narrative.

There are no costs to respondents other than their time. The total estimated annual burden hours are 11,676. This estimate reflects an increase from the 60 day notice as a result of an increase in respondents and adjustments to average burden hours.

Estimated Annualized Burden Hours
Respondents | Number of respondents (estimated) | Number of responses per respondent | Average burden per response (in hours) | Total burden (in hours)
States: Section 317 Immunization Program—Reaching More Children & Adults | 64 | 4 | 6 | 1,536
States: Section 317 Immunization Program—Innovative Initiatives | 15 | 4 | 6 | 360
States: Section 317 Immunization Program—Communication & Provider Education | 10 | 4 | 6 | 240
States: Section 317 Immunization Program—Strengthening the Evidence Base | 64 | 4 | 6 | 1,536
States: Healthcare Associated Infections—Emerging Infections Program | 10 | 4 | 6 | 240
States: Healthcare Associated Infections—Epidemiology & Laboratory Capacity | 52 | 4 | 6 | 1,248
States: Health Information Technology and Public Health | 64 | 4 | 6 | 1,536
Universities: Health Information Technology Professionals in Health Care | 30 | 4 | 6 | 720
States: Communities Putting Prevention to Work—Quitline Support | 50 | 4 | 2 | 400
States: Communities Putting Prevention to Work—Policy Activities | 50 | 4 | 2 | 400
States: Communities Putting Prevention to Work—Policy Implementation | 50 | 2 | 1 | 100
States: Communities Putting Prevention to Work—Community Policy Activities | 40 | 4 | 16 | 2,560
Communities: Communities Putting Prevention to Work—Policy Implementation | 40 | 2 | 8 | 640
State Cancer Registries: Comparative Effectiveness Research to Enhance Cancer Registry Data Systems | 15 | 4 | 2 | 120
Universities: Comparative Effectiveness Research to Improve Prevention and Wellness | 5 | 4 | 2 | 40

Dated: September 21, 2009.
Maryam I. Daneshvar,
Acting Reports Clearance Officer, Centers for Disease Control and Prevention.

[FR Doc. E9-23311 Filed 9-25-09; 8:45 am]

BILLING CODE 4163-18-P